DEPARTMENT OF COMMERCE

Patent and Trademark Office

[Docket No.: PTO-P-2010-0004]

Extension of Period for Comments on Enhancement in the Quality of Patents

AGENCY: United States Patent and Trademark Office, Commerce.

ACTION: Request for comments.

SUMMARY: The United States Patent and Trademark Office (USPTO) published a notice in the Federal Register seeking public comment directed to this focus with respect to methods that may be employed by applicants and the USPTO to enhance the quality of issued patents, to identify appropriate indicia of quality, and to establish metrics for the measurement of the indicia. The USPTO is extending the period for public comment until March 8, 2010.

Comment Deadline Date: March 8, 2010. No public hearing will be held.

ADDRESSES: Written comments should be sent by electronic mail message over the Internet addressed to patent_quality_comments@uspto.gov. Comments may also be submitted by mail addressed to: Mail Stop Comments—Patents, Commissioner for Patents, P.O. Box 1450, Alexandria, VA, 22313-1450, marked to the attention of Kenneth M. Schor and Pinchus M. Laufer. Although comments may be submitted by mail, the USPTO prefers to receive comments via the Internet.

The written comments will be available for public inspection at the Office of the Commissioner for Patents, located in Madison East, Tenth Floor, 600 Dulany Street, Alexandria, Virginia, and will be available via the USPTO Internet Web site (address: http://www.uspto.gov). Because comments will be made available for public inspection, information that is not desired to be made public, such as an address or phone number, should not be included in the comments.

FOR FURTHER INFORMATION CONTACT: By telephone: Pinchus M. Laufer, Legal Advisor, at (571) 272-7726, or Kenneth M. Schor, Senior Legal Advisor, at (571) 272-7710; by mail addressed to U.S. Patent and Trademark Office, Mail Stop Comments—Patents, Commissioner for Patents, P.O. Box 1450, Alexandria, VA 22313-1450, marked to the attention of Pinchus M. Laufer and Kenneth M. Schor; or by electronic mail (e-mail) message over the Internet addressed to pinchus.laufer@uspto.gov or kenneth.schor@uspto.gov.

SUPPLEMENTARY INFORMATION: The United States Patent and Trademark Office (USPTO) published a notice in the Federal Register seeking public comment directed to this focus with respect to methods that may be employed by applicants and the USPTO to enhance the quality of issued patents, to identify appropriate indicia of quality, and to establish metrics for the measurement of the indicia. See Request for Comments on Enhancement in the Quality of Patents, 74 FR 65093 (Dec. 9, 2009), 1350 Off. Gaz. Pat. Office 46 (Jan. 5, 2010). The USPTO indicated that to be ensured of consideration, written comments must be received on or before February 8, 2010. See Request for Comments on Enhancement in the Quality of Patents, 74 FR at 65094, 1350 Off. Gaz. Pat. Office at 46. The USPTO is extending the period for submission of public comments until March 8, 2010.

Dated: January 26, 2010.
David J. Kappos,
Under Secretary of Commerce for Intellectual Property and Director of the United States Patent and Trademark Office.

[FR Doc. 2010-2036 Filed 1-29-10; 8:45 am]

BILLING CODE 3510-16-P